DEPARTMENT OF THE TREASURY

Submission for OMB Review; Comment Request

June 4, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 9, 2007.

Internal Revenue Service (IRS)

OMB Number: 1545-1255.

Type of Review: Extension.

Title: INTL-870-89 (NPRM) Earnings Stripping (Section 163(j)).

Description: The data obtained by the IRS from the various elections and identifications is used to verify that taxpayers have, in fact, elected special treatment under section 163(j).

Respondents: Businesses and other for-profit institutions.

Estimated Total Burden Hours: 1,196 hours.

OMB Number: 1545-1165.

Type of Review: Extension.

Title: Tax Information Authorization.

Form: 8821.

Description: Form 8821 is used to appoint someone to receive or inspect certain tax information. Data are used to identify appointees and to ensure that confidential information is not divulged to unauthorized persons.

Respondents: Individuals or households.

Estimated Total Burden Hours: 140,300 hours.

OMB Number: 1545-1132.

Type of Review: Extension.

Title: INTL-5367-89 (Final) Registration Requirements with Respect to Certain Debt Obligations; Application of Repeal of 30 Percent Withholding by the Tax Reform Act of 1984.

Description: The Internal Revenue Service needs the information in order to ensure that purchasers of bearer obligations are not U.S. persons (other than those permitted to hold obligations under section 165(j) and to ensure that U.S. persons holding bearer obligations properly report income and gain on such obligations.

Respondents: Businesses or other for-profit institutions.

Estimated Total Burden Hours: 852 hours.

OMB Number: 1545-1138.

Type of Review: Extension.

Title: INTL-955-86 (Final) Requirements for Investments to Qualify under Section 936(d)(4) as Investments in Qualified Caribbean Basin Countries.

Description: The collection of information is required by the Internal Revenue Service to verify that an investment qualifies under IRC section 936(d)(4). The recordkeepers will be possession corporations, certain financial institutions located in Puerto Rico, and borrowers of funds covered by this regulation.

Respondents: Businesses and other for-profit institutions.

Estimated Total Burden Hours: 1,500 hours.

OMB Number: 1545-1576.

Type of Review: Extension.

Title: Student Loan Interest Statement.

Form: 1098-E.

Description: Section 6050S(b)(2) of the Internal Revenue Code requires persons (financial institutions, governmental units, etc.) to report $600 or more of interest paid on student loans to the IRS and the students.

Respondents: Individuals or households.

Estimated Total Burden Hours: 1,051,357 hours.

OMB Number: 1545-2055.

Type of Review: Extension.

Title: Energy Efficient Appliance Credit.

Form: 8909.

Description: Form 8909, Energy Efficient Appliance Credit, was developed to carry out the provisions of new Code section 45M. This new section was added by section 1334 of the Energy Policy Act of 2005 (Pub. L. 109-58). The new form provides a means for the eligible manufacturer/taxpayer to compute the amount of, and claim, the credit.

Respondents: Businesses and other for-profit institutions.

Estimated Total Burden Hours: 80 hours.

OMB Number: 1545-1879.

Type of Review: Extension.

Title: Exempt Organization Declaration and Signature for Electronic Filing.

Form: 8453-EO.

Description: Form 8453-EO is used to authenticate an electronic Forms 990, 990-EZ, 1120-POL, or 8868 authorize the electronic return originator, and/or intermediate service provider, if any, to transmit via a third-party transmitter; and provide the organization's consent to directly deposit any refund and/or authorize an electronic funds withdrawal for payment of Federal taxes owed.

Respondents: Not-for-profit institutions.

Estimated Total Burden Hours: 1,046 hours.

OMB Number: 1545-1861.

Type of Review: Extension.

Title: Review Procedure 2004-19, Probable or Prospective Reserves Safe Harbor.

Description: This revenue procedure requires a taxpayer to file an election statement with the Service if the taxpayer wants to use the safe harbor to estimate the taxpayers' oil and gas properties' probable or prospective reserves for purposes of computing cost depletion under Sec. 611 of the Internal Revenue Code.

Respondents: Businesses or other for-profit institutions.

Estimated Total Burden Hours: 50 hours.

OMB Number: 1545-1433.

Type of Review: Extension.

Title: CO-11-91 (Final) Consolidated Groups and Controlled Groups—Inter-Company Transactions and Related Rules; CO-24-95 (Final) Consolidated Groups-Inter-Company Transactions and Related Rules.

Description: The regulations require common parents that make elections under Section 1.1502-13 to provide certain information. The information will be used to identify and assure that the amount, location, timing and attributes of inter-company transactions and corresponding items are properly maintained.

Respondents: Businesses or other for-profit institutions.

Estimated Total Burden Hours: 1,050 hours.

OMB Number: 1545-1308.

Type of Review: Extension.

Title: PS-260-82 (Final) Election, Revocation, Termination, and Tax Effect of Subchapter S Status—TD 8449.

Description: Section 1-1362 through 1.1362-7 of the Income Tax Regulations provide the specific procedures and requirements necessary to implement section 1362, including the filing of various elections and statements with the Internal Revenue Service.

Respondents: Individuals or households.

Estimated Total Burden Hours: 322 hours.

OMB Number: 1545-2052.

Type of Review: Extension.

Title: U.S. Income Tax Return for Cooperative Associations.

Form: 1120-C.

Description: IRS Code section 1381 requires subchapter T cooperatives to file returns. Previously, farmers' cooperatives filed Form 990-C and other subchapter T coopeatives filed Form 1120. If the subchapter T cooperative does not meet certain requirements, the due date of their return is two and one-half months after the end of their tax year which is the same as the due date for all other corporations. The due date for income tax returns filed by subchapter T cooperatives who meet certain requirements is eight and one-half months after the end of their tax year. Cooperatives who filed their income tax returns on Form 1120 were considered to be late and penalties were assessed since they had not filed by the normal due date for Form 1120. Due to the assessment of the penalties, burden was placed on the taxpayer and on the IRS employees to resolve the issue. Regulations (Reg-149436-04) published in the Federal Register (71 FR 43811), require that all subchapter T cooperatives will file Form 1120-C, U.S. Income Tax Return for Cooperative Associations.

Respondents: Businesses and other for-profit institutions.

Estimated Total Burden Hours: 430,400 hours.

OMB Number: 1545-1613.

Type of Review: Extension.

Title: REG-209446-82 (Final) Passthrough of Items of an S Corporation to its Shareholders.

Description: Section 1366 requires shareholders of an S corporation to take into account their pro rata share of separately stated items of the S corporation and non-separately computed income or loss. The regulations provide guidance regarding this regarding requirement.

Respondents: Busiensses or other for-profit institutions.

Estimated Total Burden Hours: 1 hour.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. 07-2860 Filed 6-7-07; 8:45am]

BILLING CODE 4830-01-M